DEPARTMENT OF ENERGY

Federal Energy Regulatory Commission

[Docket No. ES00-48-000, et al.]

Texas-New Mexico Power Company, et al.; Electric Rate and Corporate Regulation Filings

July 12, 2000.

Take notice that the following filings have been made with the Commission:

1. Texas-New Mexico Power Company

[Docket No. ES00-48-000]

Take notice that on June 29, 2000, Texas-New Mexico Power Company submitted an application pursuant to section 204 of the Federal Power Act seeking authorization to make short-term borrowings under a bank syndicated revolving credit agreement in an amount not to exceed $325 million.

Comment date: August 2, 2000, in accordance with Standard Paragraph E at the end of this notice.

2. Citizens Utilities Company

[Docket No. ER00-3078-000]

Take notice that on July 6, 2000, Citizens Utilities Company (Citizens), tendered for filing on behalf of itself and The Legacy Energy Group, LLC, a Service Agreement for Non-Firm Point-to-Point Transmission Service under Citizens' Open Access Transmission Tariff. Also Citizens tendered for filing a revised Attachment E, Index of Point-to-Point Transmission Service Customers to update the Open Access Transmission Tariff of the Vermont Electric Division of Citizens Utilities Company.

Comment date: July 27, 2000, in accordance with Standard Paragraph E at the end of this notice.

3. K2 Development LLC

[Docket No. ER00-3092-000]

Take notice that on July 6, 2000, K2 Development LLC, tendered a Notice of Name Change pursuant to Sections 35.16 and 131.51 of the Commission's Regulations, 18 CFR 35.16 and 131.51.

Comment date: July 27, 2000, in accordance with Standard Paragraph E at the end of this notice.

4. Ameren Services Company

[Docket No. ER00-3093-000]

Take notice that on July 7, 2000, Ameren Services Company (ASC), tendered for filing a Service Agreement for Firm Point-to-Point Transmission Services between ASC and Entergy Power Marketing Corp. (Entergy). ASC asserts that the purpose of the Agreement is to permit ASC to provide transmission service to Entergy pursuant to Ameren's Open Access Transmission Tariff filed in Docket No. ER96-677-004.

Comment date: July 28, 2000, in accordance with Standard Paragraph E at the end of this notice.

5. Consumers Energy Company and International Transmission Company

[Docket No. ER00-3094-000]

Take notice that on July 7, 2000, Consumers Energy Company and International Transmission Company tendered for filing their joint open access transmission tariff, Original Volume 1, pursuant to Section 205 of the Federal Power Act, 16 U.S.C. 824d (1994).

Comment date: July 28, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-18171 Filed 7-18-00; 8:45 am]

BILLING CODE 6717-01-P